DEPARTMENT OF COMMERCE

National Oceanic and Atmospheric Administration

[RTID 0648-XD722]

Deepwater Horizon Natural Resource Damage Assessment Alabama Trustee Implementation Group Final Supplemental Restoration Plan II and Environmental Assessment: Marine Mammals, and Finding of No Significant Impact

AGENCY: National Marine Fisheries Service (NMFS), National Oceanic and Atmospheric Administration (NOAA), Commerce.

ACTION: Notice of availability.

SUMMARY: The Deepwater Horizon (DWH) natural resource trustees for the Alabama Trustee Implementation Group (TIG) have prepared the Final Supplemental Restoration Plan II and Environmental Assessment: Marine Mammals (RPII/EA) and Finding of No Significant Impact. The Final Supplemental RPII/EA evaluates the use of additional funds from the Marine Mammals Restoration Type to extend the implementation of one or more projects currently underway in the Alabama Restoration Area to continue the Alabama TIG's efforts to restore for injuries to marine mammals impacted by the DWH oil spill. The Final Supplemental RPII/EA evaluates two restoration alternatives including consideration of the criteria set forth in the OPA natural resource damage assessment (NRDA) regulations, and an analysis under National Environmental Policy Act (NEPA) implementing regulations. A No Action Alternative is also evaluated pursuant to the NEPA. In the Final Supplemental RPII/EA the Alabama TIG selects the preferred alternative for implementation. The total estimated cost to implement the Alabama TIG's Preferred Alternative—an extension of the Enhancing Capacity for the Alabama Marine Mammal Stranding Network Project—is $1,881,237. This action allocates the Alabama TIG's remaining Marine Mammals restoration funds.

ADDRESSES: You may view and download the Final Supplemental RPII/EA at https://www.gulfspillrestoration.noaa.gov/restoration-areas/alabama. You may also request a flash drive containing the Final Supplemental RPII/EA (see FOR FURTHER INFORMATION CONTACT).

FOR FURTHER INFORMATION CONTACT: Stella Wilson, NOAA Restoration Center, (850) 332-4169, gulfspill.restoration@noaa.gov.

SUPPLEMENTARY INFORMATION:

Introduction

On April 20, 2010, the mobile offshore drilling unit DWH, which was drilling a well for BP Exploration and Production, Inc., (BP) experienced a significant explosion, fire and subsequent sinking in the Gulf of Mexico, resulting in the release of millions of barrels of oil and other discharges into the Gulf. Under the authority of the OPA, designated Federal and State trustees, acting on behalf of the public, assessed the injuries to natural resources and prepared the “Deepwater Horizon Oil Spill Final Programmatic Damage Assessment and Restoration Plan and Final Programmatic Environmental Impact Statement” and the “Record of Decision for the Deepwater Horizon Oil Spill Final Programmatic Damage Assessment and Restoration Plan and Final Programmatic Environmental Impact Statement”, which sets forth the governance structure and process for DWH restoration planning under the OPA NRDA regulations. On April 4, 2016, the U.S. District Court for the eastern district of Louisiana entered a consent decree resolving civil claims by the trustees against BP.

The Alabama TIG, which is composed of the Alabama Department of Conservation and Natural Resources, NOAA, Environmental Protection Agency, U.S. Department of the Interior, Environmental Protection Agency, and U.S. Department of Agriculture, selects and implements restoration projects under the Alabama TIG's management authority in accordance with the consent decree. The Final PDARP/PEIS, ROD, consent decree, and information on the DWH trustees can be found at https://www.gulfspillrestoration.noaa.gov/restoration-planning/gulf-plan.

Background

In September 2018, the Alabama TIG completed the “Deepwater Horizon Oil Spill Alabama Trustee Implementation Group Final Restoration Plan II and Environmental Assessment: Restoration of Wetlands, Coastal, and Nearshore Habitats; Habitat Projects on Federally Managed Lands; Nutrient Reduction (Nonpoint Source); Sea Turtles; Marine Mammals; Birds; and Oysters”. Twenty restoration projects were selected for implementation; one of which was Enhancing Capacity for the Alabama Marine Mammal Stranding Network. That project has been successfully implemented utilizing Marine Mammal Restoration Type funds identified in the DWH consent decree.

Overview of the Final Supplemental RPII/EA

In the Final Supplemental RPII/EA, the Alabama TIG analyzes a reasonable range of two project alternatives and, pursuant to the NEPA, a No Action Alternative. Those alternatives include:

• Enhancing Capacity for the Alabama Marine Mammal Stranding Network project Extension (preferred); and

• Reducing Illegal Feeding of Bottlenose Dolphins project (non-preferred).

Funding to implement either alternative ultimately selected by the Alabama TIG would come from the Marine Mammal Restoration Type allocation. The total estimated cost to implement the preferred alternative is $1,881,237 and would utilize the remaining allocation of Alabama TIG Marine Mammal Restoration Type funds.

Administrative Record

The Administrative Record for the Final Supplemental RPII/EA can be viewed electronically at https://www.doi.gov/deepwaterhorizon/adminrecord under the folder 6.5.3.2.

Authority

The authority for this action is the OPA of 1990 (33 U.S.C. 2701 et seq.), its implementing NRDA regulations found at 15 CFR part 990, and the NEPA of 1969 (42 U.S.C. 4321 et seq.), its implementing regulations found at 40 CFR parts 1500-1508.

Dated: July 29, 2024.
Carrie Diane Robinson,
Director, Office of Habitat Conservation, National Marine Fisheries Service.

[FR Doc. 2024-17092 Filed 8-1-24; 8:45 am]

BILLING CODE 3510-22-P